DEPARTMENT OF HOMELAND SECURITY

Federal Emergency Management Agency

44 CFR Part 67

[Docket ID FEMA-2011-0002; Internal Agency Docket No. FEMA-B-1194]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 6, 2011.

ADDRESSES: The corresponding preliminary Flood Insurance Rate Map (FIRM) for the proposed BFEs for each community is available for inspection at the community's map repository. The respective addresses are listed in the table below.

You may submit comments, identified by Docket No. FEMA-B-1194, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Fremont County, Colorado, and Incorporated Areas
Abbey Drainageway | Approximately 0.48 mile upstream of the Arkansas River confluence | None | +5,274 | City of Canon City, Unincorporated Areas of Fremont County.
| Approximately 1,400 feet upstream of Central Avenue | None | +5,396
Fourmile Creek | Approximately 1,280 feet upstream of the Arkansas River confluence | None | +5,257 | City of Canon City, Unincorporated Areas of Fremont County.
| Approximately 1.39 miles upstream of U.S. Route 50 | None | +5,361
Mudd Gulch | Approximately 1,200 feet upstream of the Arkansas River confluence | None | +5,239 | City of Canon City, Unincorporated Areas of Fremont County.
| Approximately 0.64 mile upstream of Fourmile Parkway | None | +5,514
Mudd Gulch Split Flow | At the upstream side of the railroad | None | +5,235 | Unincorpor- ated Areas of Fremont County.
| Approximately 0.67 mile upstream of the Arkansas River confluence | None | +5,250
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Canon City
Maps are available for inspection at City Hall, 128 Main Street, Canon City, CO 81212.
Unincorporated Areas of Fremont County
Maps are available for inspection at the Fremont County Courthouse, 615 Macon Avenue, Canon City, CO 81212.
Dallas County, Texas, and Incorporated Areas
Bachman Branch | Approximately 0.31 mile upstream of the Browning Branch confluence | +505 | +501 | City of Dallas.
| At the upstream side of Willow Lane | +590 | +593
Bear Creek | At the upstream side of Belt Line Road | +447 | +446 | City of Grand Prairie, City of Irving.
| Approximately 0.25 mile upstream of County Line Road | +481 | +479
Beckley Club Branch | Approximately 700 feet upstream of Elmore Avenue | +472 | +469 | City of Dallas.
| Approximately 275 feet downstream of Appian Way | +554 | +557
Bennett Branch | Approximately 650 feet downstream of Beltline Road | +434 | +433 | City of Mesquite.
| Approximately 0.28 mile upstream of Plaza Drive | +472 | +470
Bentle Branch Creek | Approximately 500 feet upstream of the Tenmile Creek confluence | +632 | +631 | City of Cedar Hill.
| Approximately 190 feet upstream of County Highway 1382 | +752 | +754
Browning Branch | Approximately 750 feet downstream of Lake Hill Drive | +512 | +508 | City of Dallas.
| Approximately 150 feet upstream of Hollow Way Road | +548 | +547
Cedar Creek | At the upstream side of Ewing Avenue | +446 | +447 | City of Dallas.
| At the upstream side of Montclair Avenue | +542 | +540
Chalk Hill Branch | At the upstream side of Davis Street | +517 | +518 | City of Cockrell Hill, City of Dallas.
| At the upstream side of Clarendon Drive | None | +615
Coombs Creek | At the upstream side of Davis Road | +520 | +527 | City of Dallas.
| Approximately 650 feet upstream of Clarendon Drive | +597 | +601
Cottonwood Creek (of Lake Ray Hubbard) | Approximately 0.32 mile downstream of Stonewall Road | +445 | +447 | City of Dallas, City of Garland, City of Rowlett, Unincorporated Areas of Dallas County.
| Approximately 400 feet upstream of Highridge Drive | +485 | +486
Cottonwood Creek (of White Rock Creek) | Approximately 1,200 feet upstream of the White Rock Creek confluence | +503 | +505 | City of Dallas, City of Richardson.
| Approximately 0.40 mile upstream of Campbell Road | +667 | +666
Elmwood Branch | Approximately 800 feet upstream of Clarendon Drive | +500 | +501 | City of Dallas.
| At the upstream side of Wright Street | +595 | +593
Estes Branch | Approximately 350 feet downstream of Saint Augustine Drive | +475 | +476 | City of Dallas.
| At the downstream side of Saint Augustine Drive | +475 | +478
Floyd Branch (of White Rock Creek) | Approximately 1,300 feet upstream of the Cottonwood Creek confluence | +511 | +510 | City of Dallas, City of Richardson.
| At the downstream side of Polk Street | +622 | +620
Furneaux Creek | At the upstream side of President George Bush Turnpike | +453 | +450 | City of Carrollton.
| Approximately 0.41 mile upstream of Dickerson Parkway | +459 | +460
Hatfield Branch | At the upstream side of Prairie Creek Road | +404 | +402 | City of Dallas.
| Approximately 0.7 mile upstream of North Masters Drive | +477 | +478
Hickory Creek | At the downstream side of Kelberg Road | +404 | +401 | City of Dallas.
| Approximately 700 feet upstream of C.F. Hawn Freeway | +429 | +430
Hollings Branch | Approximately 0.50 mile upstream of the North Hollings Branch confluence | None | +538 | City of Cedar Hill, City of Grand Prairie.
| Approximately 0.3 mile upstream of Ellis Road | None | +638
Hunt Branch | Approximately 900 feet upstream of the Cottonwood Creek (of White Rock Creek) confluence | +557 | +559 | City of Dallas, City of Richardson.
| At the downstream side of Belt Line Road | +616 | +613
Hutton Branch | At the upstream side of Belt Line Road | +442 | +443 | City of Carrollton.
| Approximately 135 feet upstream of Midway Road | None | +605
Lake June Branch | Approximately 650 feet upstream of the Prairie Creek confluence | +461 | +463 | City of Dallas.
| At the downstream side of Oak Gate Lane | +489 | +491
Long Branch (of Duck Creek) Bypass | At the upstream side of the Long Branch (of Duck Creek) confluence | +498 | +490 | City of Mesquite.
| Approximately 460 feet upstream of the Long Branch (of Duck Creek) confluence | +500 | +493
Long Branch (of Duck Creek) | Approximately 0.38 mile downstream of Northwest Drive | +466 | +468 | City of Dallas, City of Mesquite.
| Approximately 200 feet downstream of I-635 | +555 | +553
Meadowdale Branch | Approximately 950 feet downstream of Rowlett Road | None | +468 | City of Garland.
| Approximately 150 feet downstream of Rowlett Road | None | +468
North Mesquite Creek | Approximately 0.61 mile downstream of Lawson Road | +381 | +379 | City of Mesquite, Town of Sunnyvale, Unincorporated Areas of Dallas County.
| Approximately 205 feet downstream of Via Del Norte Road | +507 | +505
North Mesquite Creek Spill | At the upstream side of the North Mesquite Creek confluence | None | +481 | City of Mesquite.
| At the downstream side of Tripp Road | None | +488
Pleasant Branch | Approximately 1,000 feet upstream of the Prairie Creek confluence | +467 | +466 | City of Dallas.
| At the downstream side of Bruton Road | +497 | +498
Prairie Creek | At the downstream side of I-20 | +398 | +397 | City of Dallas.
| At the downstream side of Union Pacific Railroad | +523 | +524
Pruitt Branch | Approximately 1,450 feet upstream of the Prairie Creek confluence | +412 | +414 | City of Dallas.
| At the downstream side of C.F. Hawn Freeway | +434 | +435
Richardson Branch | Approximately 0.3 mile downstream of Green Oaks Circle | +506 | +507 | City of Dallas.
| At the downstream side of Forest Lane | +586 | +588
Rugged Branch | At the downstream side of Elmwood Boulevard | +550 | +549 | City of Dallas.
| Approximately 60 feet upstream of Berkley Avenue | +564 | +565
Rylie Branch | Approximately 0.38 mile upstream of the Hatfield Branch confluence | +407 | +409 | City of Dallas.
| Approximately 550 feet downstream of Grady Lane | None | +456
South Branch of Cedar Creek | Approximately 100 feet downstream of I-35 East | +477 | +474 | City of Dallas.
| At the upstream side of Ohio Avenue | +525 | +528
South Branch of Cedar Creek Tributary 1 | At the upstream side of the South Branch of Cedar Creek confluence | +500 | +496 | City of Dallas.
| At the downstream side of Louisiana Avenue | +507 | +506
South Mesquite Creek | Approximately 0.61 mile downstream of Lawson Road | +385 | +383 | City of Balch Springs, City of Mesquite.
| Approximately 420 feet upstream of Tam O'Shanter Drive | +548 | +545
Stream 2A4 | Approximately 850 feet upstream of Dalrock Road | +454 | +453 | City of Dallas, City of Rowlett.
| Approximately 660 feet upstream of Oak Hollow Drive | +480 | +477
Stream 2A5 | Approximately 100 feet downstream of Spinnaker Cove | +459 | +461 | City of Dallas, City of Rowlett.
| At the upstream side of Dalrock Road | +468 | +467
Stream 2B1 | At the downstream side of Belt Line Road | +428 | +429 | City of Balch Springs, City of Mesquite.
| Approximately 500 feet downstream of Eastgate Drive | +458 | +460
Stream 2B2 | At the upstream side of the Stream 2B3 confluence | +448 | +443 | City of Balch Springs, City of Mesquite.
| Approximately 0.25 mile upstream of I-635 | +452 | +453
Stream 2B3 | Approximately 425 feet upstream of the Stream 2B2 confluence | +448 | +446 | City of Mesquite.
| Approximately 500 feet upstream of the Stream 2B2 confluence | +450 | +449
Stream 2B4 | Approximately 0.26 mile downstream of State Highway 352 | +445 | +449 | City of Mesquite.
| Approximately 100 feet upstream of Kearney Street | +475 | +476
Stream 2B5 | Approximately 500 feet upstream of I-635 | +451 | +452 | City of Mesquite.
| Approximately 0.22 mile downstream of Town East Boulevard | +485 | +482
Stream 2B6 | Approximately 400 feet upstream of the South Mesquite Creek confluence | +472 | +473 | City of Mesquite.
| At the downstream side of Baker Drive | +501 | +502
Stream 2B7 | Approximately 1,000 feet downstream of Tedlow Trail | +494 | +491 | City of Mesquite.
| Approximately 900 feet upstream of I-30 | +523 | +521
Stream 2B8 | Approximately 700 feet upstream of the South Mesquite Creek confluence | +465 | +464 | City of Mesquite.
| Approximately 200 feet downstream of U.S. Route 80 | +495 | +493
Stream 2E1 | At the upstream side of Kyle Road | +475 | +477 | City of Rowlett.
| Approximately 0.39 mile upstream of the Long Branch (of Lake Ray Hubbard) confluence | None | +486
Stream 2E10 | At the upstream side of Chiesa Road | +444 | +449 | City of Rowlett.
| Approximately 0.68 mile upstream of Chiesa Road | None | +470
Stream 2E2 | Approximately 0.49 mile downstream of Liberty Grove Road | +438 | +439 | City of Rowlett.
| Approximately 1.09 miles upstream of Liberty Grove Road | +488 | +491
Stream 2E2 Tributary 1 | At the upstream side of the Stream 2E2 confluence | None | +466 | City of Rowlett.
| At the downstream side of Big Cemetery Road | None | +475
Stream 2E8 | Approximately 0.32 mile upstream of the Muddy Creek confluence | +473 | +471 | City of Garland, City of Rowlett, City of Sachse.
| Approximately 200 feet upstream of Merritt Road | +498 | +499
Stream 2J2 | At the upstream side of Brookhaven Drive | +493 | +494 | City of Mesquite.
| Approximately 600 feet downstream of American Lane | +506 | +503
Stream 4C3 | Approximately 600 feet downstream of Kleberg Road | +402 | +400 | City of Dallas, City of Seagoville, Unincorporated Areas of Dallas County.
| At the upstream side of Belt Line Road | None | +455
Stream 5B11 | Approximately 400 feet upstream of the Floyd Branch confluence | +593 | +596 | City of Richardson.
| Approximately 350 feet downstream of Polk Street | +634 | +632
Stream 5B12 | Approximately 800 feet upstream of the Cottonwood Creek confluence | +584 | +585 | City of Dallas, City of Richardson.
| At the downstream side of Cullum Street | +662 | +660
Stream 6A1 | At the upstream side of Turtle Creek Boulevard | +484 | +474 | Town of Highland Park.
| Approximately 525 feet upstream of Beverly Drive | +527 | +526
Stream 6D1 | At the upstream side of East Jackson Road | +498 | +497 | City of Carrollton.
| Approximately 800 feet upstream of East Jackson Road | None | +502
Stream 6D3 | Approximately 900 feet upstream of the Hutton Branch confluence | +479 | +478 | City of Carrollton.
| Approximately 450 feet upstream of Old Trinity Mills Road | +556 | +554
Stream 6D4 | At the upstream side of East Jackson Road | +500 | +502 | City of Carrollton.
| At the upstream side of Scott Mill Road | +516 | +521
Stream 6D5 | Approximately 100 feet upstream of the Hutton Branch confluence | +494 | +493 | City of Carrollton.
| Approximately 500 feet upstream of Waterford Way | +530 | +523
Stream 6D7 | Approximately 300 feet upstream of Carmel Drive | None | +510 | City of Carrollton.
| Approximately 250 feet upstream of Briardale Drive | None | +525
Stream 6D8 | Approximately 370 feet upstream of the Hutton Branch confluence | +562 | +564 | City of Carrollton.
| At the upstream side of Tarpley Road | None | +613
Stream JC-1 | Approximately 0.22 mile upstream of the Johnson Creek confluence | +450 | +449 | City of Grand Prairie.
| At the upstream side of West Tarrant Road | +499 | +502
Turtle Creek | At the downstream side of Blackburn Street | +445 | +448 | City of Dallas, Town of Highland Park.
| At the downstream side of Wycliff Avenue | +474 | +473
West Fork of South Mesquite Creek | At the upstream side of Peachtree Road | +460 | +461 | City of Mesquite.
| Approximately 700 feet downstream of Anthony Drive | +500 | +498
White Rock Creek | At the upstream side of the Peaks Branch confluence | +407 | +408 | City of Dallas, Town of Addison.
| Approximately 0.4 mile upstream of the Hall Branch confluence | +583 | +588
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Balch Springs
Maps are available for inspection at the Public Works Department, 3117 Hickory Tree Road, Balch Springs, TX 75180.
City of Carrollton
Maps are available for inspection at the Engineering Department, 1945 East Jackson Road, Carrollton, TX 75006.
City of Cedar Hill
Maps are available for inspection at City Hall, 502 Cedar Street, Cedar Hill, TX 75104.
City of Cockrell Hill
Maps are available for inspection at City Hall, Department of Public Works, 4125 West Clarendon Drive, Cockrell Hill, TX 75211.
City of Dallas
Maps are available for inspection at the Department of Public Works, 320 East Jefferson Boulevard, Dallas, TX 75203.
City of Garland
Maps are available for inspection at City Hall, 800 Main Street, Garland, TX 75040.
City of Grand Prairie
Maps are available for inspection at the City Development Center, 206 West Church Street, Grand Prairie, TX 75051.
City of Irving
Maps are available for inspection at the Public Works Department, 825 West Irving Boulevard, Irving, TX 75015
City of Mesquite
Maps are available for inspection at the Engineering Division, 1515 North Galloway Avenue, Mesquite, TX 75185.
City of Richardson
Maps are available for inspection at the Engineering Office, 411 West Arapaho Road, Room 204, Richardson, TX 75083.
City of Rowlett
Maps are available for inspection at City Hall, 4000 Main Street, Rowlett, TX 75083.
City of Sachse
Maps are available for inspection at the Community Development Department, 5560 State Highway 78, Sachse, TX 75048.
City of Seagoville
Maps are available for inspection at City Hall, 702 North U.S. Route 175, Seagoville, TX 75182.
Town of Addison
Maps are available for inspection at the Public Works Department, 16801 Westgrove Drive, Addison, TX 75001.
Town of Highland Park
Maps are available for inspection at the Public Works Department, 4700 Drexel Drive, Highland Park, TX 75205.
Town of Sunnyvale
Maps are available for inspection at the Town Hall, 537 Long Creek Road, Sunnyvale, TX 75182.
Unincorporated Areas of Dallas County
Maps are available for inspection at the Dallas County Records Building, 509 Main Street, Dallas, TX 75202.

(Catalog of Federal Domestic Assistance No. 97.022, “Flood Insurance.”)

Dated: May 11, 2011.
Sandra K. Knight,
Deputy Federal Insurance and Mitigation Administrator, Mitigation, Department of Homeland Security, Federal Emergency Management Agency.

[FR Doc. 2011-14021 Filed 6-6-11; 8:45 am]

BILLING CODE 9110-12-P